DEPARTMENT OF LABOR

Employment and Training Administration

[TA-W-39,313]

Lynn Electronics Feasterville, Pennsylvania; Notice of Negative Determination on Reconsideration

On September 5, 2001, the Department issued an Affirmative Determination Regarding Application for Reconsideration for the workers and former workers of the subject firm. The notice was published in the Federal Register on September 21, 2001 (66 FR 48714).

The Department initially denied TAA to workers of Lynn Electronics, Feasterville, Pennsylvania because the “contributed importantly” group eligibility requirement of section 222(3) of the Trade Act of 1974, as amended, was not met. The workers at the subject firm were engaged in employment related to the production of wire and cable and cordsets.

The petitioner provided evidence that further survey may be warranted regarding customer purchases of communication wire products.

On reconsideration, the Department contacted the company for additional customers of the subject firm. The company indicated that the products produced at the subject plant are shopped to a sister facility (warehouse). Those products produced at the subject plant account for approximately one-fourth of the total sales at the sister facility. The remainder of the products sold at the sister facility are in fact imported. Only a negligible portion of the imports are like or directly competitive with products produced at the subject plant.

The investigation further revealed that the overwhelming preponderance in the declines in employment leading to the closure of the plant is related to the company being able to purchase domestically produced products at a lower cost than those produced at the subject plant.

Any declines in sales are the direct result of the phase down of the plant prior to the closure of the plant.

A customer survey was not conducted due to the conditions as described above.

Conclusion

After reconsideration, I affirm the original notice of negative determination of eligibility to apply for worker adjustment assistance for workers and former workers of Lynn Electronics, Feasterville, Pennsylvania.

Signed at Washington, DC, this 16th day of October, 2001.
Edward A. Tomchick,
Director, Division of Trade Adjustment Assistance.

[FR Doc. 01-27242 Filed 10-29-01; 8:45 am]

BILLING CODE 4510-30-M